DEPARTMENT OF TRANSPORTATION

Federal Railroad Administration

[Docket No. FRA-2022-0002-N-10]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICRs) abstracted below. Before submitting these ICRs to the Office of Management and Budget (OMB) for approval, FRA is soliciting public comment on specific aspects of the activities identified in the ICRs.

DATES: Interested persons are invited to submit comments on or before August 15, 2022.

ADDRESSES: Written comments and recommendations for the proposed ICRs should be submitted on regulations.gov to the docket, Docket No. FRA-2022-0002. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 868-9412.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Special Notice for Repairs.

OMB Control Number: 2130-0504.

Abstract: Under 49 CFR part 216, FRA and State inspectors may issue a Special Notice for Repairs to notify a railroad in writing of an unsafe condition involving a locomotive, car, or track. The railroad must notify FRA in writing when the equipment is returned to service or the track is restored to a condition permitting operations at speeds authorized for a higher class, specifying the repairs completed. FRA and State inspectors use this information to remove from service freight cars, passenger cars, and locomotives until they can be restored to a serviceable condition. They also use this information to reduce the maximum authorized speed on a section of track until repairs can be made.

In this 60-day notice, FRA made adjustments which decreased the previously approved burden hours from 16 hours to 3 hours. For instance:

• Under § 216.15(b), the burden decreased from 13 hours to .25 hour due to changes in the number of responses—from fifty (50) form replies to one (1) form reply per year. FRA's estimate is based on how infrequently these replies have been submitted to date.

• FRA anticipates zero submissions under § 216.25 as noted in the PRA table printed below.

Type of Request: Extension without change (with changes in estimates) of a currently approved collection.

Affected Public: Businesses.

Form(s): FRA F 6180.8; FRA F 6180.8A.

Respondent Universe: 754 railroads.

Frequency of Submission: On occasion.

Reporting Burden:

Section | Respondent universe | Total annual responses | Average time per responses | Total annual burden hours | Total cost equivalent in U.S. dollar
|  | (A) | (B) | (C = A * B) | (D = C * wage rates) ¹
216.13(b)—Special Notice for Repairs: Locomotive—RR reply to special notice for repair informing FRA that affected locomotive is returned to service—FRA Form F 6180.8 | 754 railroads | 5 form replies | 15 minutes | 1.25 | 96.80
216.15(b)—Special Notice for Repairs: Track—RR reply to special notice for repair informing FRA that affected track is restored to condition permitting operations at speeds authorized at higher speeds—FRA Form F 6180.8a | 754 railroads | 1 form reply | 15 minutes | .25 | 19.36
216.21(b)—Notice of track conditions: Letter from railroad to FRA track engineer that affected track has been repaired and is ready for re-inspection | 754 railroads | 1 letter | 1 hour | 1.00 | 77.44
216.25—Issuance of review and emergency order: Petition for review of order or letter stating track has been repaired | FRA anticipates zero submissions in this 3-year ICR period.
Total ² | 754 railroads | 7 responses | N/A | 3 | 194

Total Estimated Annual Responses: 7.

¹ The dollar equivalent cost is derived from the Surface Transportation Board's 2020 Full Year Wage A&B data series for railroad workers. The wage rate of $77.44 per hour includes a 75-percent overhead charge.

² Totals may not add due to rounding.

Total Estimated Annual Burden: 3 hours.

Total Estimated Annual Burden Hour Dollar Cost Equivalent: $194.

Title: Bridge Safety Standards.

OMB Control Number: 2130-0586.

Abstract: The Fixing America's Surface Transportation Act (FAST Act) (Pub. L. 114-94, Dec. 4, 2015), Section 11405, “Bridge Inspection Reports,” provides a means for a State or a political subdivision of a State to obtain a public version of a bridge inspection report generated by a railroad for a bridge located within its respective jurisdiction. While the FAST Act specifies that requests for such reports are to be filed with the Secretary of Transportation, the responsibility for fulfilling these requests is delegated to FRA.³ FRA developed a form titled “Bridge Inspection Report Public Version Request Form” (FRA F 6180.167) to facilitate such requests by States and their political subdivisions.

³ 49 CFR 1.89(a).

Additionally, the collection of information set forth under 49 CFR 214.105(c) establishes standards and practices for safety net systems. Safety nets and net installations must be drop-tested at the job site after initial installation and before being used as a fall-protection system, after major repairs, and at 6-month intervals if left at one site. If a drop-test is not feasible and is not performed, then the railroad or railroad contractor, or a designated certified person, must provide written certification the net complies with the safety standards under § 214.105. FRA and State inspectors use the information to enforce Federal regulations. The information maintained at the job site promotes safe bridge worker practices while providing flexibility at bridge work job sites.

Furthermore, the collection of information set forth under 49 CFR part 237 normalized and established Federal requirements for railroad bridges.⁴ In particular, the collection of information is used by FRA to confirm that railroads/track owners adopt and implement bridge management programs to properly inspect, maintain, modify, and repair all bridges that carry trains for which they are responsible. Railroads/track owners must conduct annual inspections of railroad bridges, as well as special inspections, which must be carried out if natural or accidental events cause conditions that warrant such inspections. Further, railroads/track owners must incorporate provisions for internal audits into their bridge management programs and must conduct internal audits of bridge inspection reports. FRA uses the information collected to ensure that railroads/track owners meet Federal standards for bridge safety and comply with all the requirements of part 237.

⁴ 75 FR 41281 (July 15, 2010).

In this 60-day notice, FRA made several adjustments which increased the previously approved burden hours from 4,858 hours to 34,616 hours. For instance:

• Under § 237.31, the burden increased by 360 hours because FRA anticipates it will receive 15 bridge management programs.

• Under § 237.109, FRA corrected the number of bridge inspection reports anticipated from 15,450 to 100,000 reports which consequently increased the burden by 21,137 hours.

• Under § 237.109, FRA updated this burden which added 8,333 hours.

• FRA found that the burden associated with § 237.109(g) is covered under § 237.109. Thus, FRA removed the duplicative burden of 25 hours and included an explanatory note in the PRA table printed below.

Type of Request: Extension without change (with changes in estimates) of a currently approved collection.

Affected Public: Businesses (railroads and track owners), States, the District of Columbia (DC), and political subdivisions of States.

Form(s): FRA F 6180.167.

Respondent Universe: 784 track owners, 50 States and DC, and 200 political subdivisions of States.

Frequency of Submission: On occasion and annual.

Reporting Burden:

Section ⁵ | Respondent universe | Total annual responses | Average time per responses | Total annual burden hours | Total cost equivalent in U.S. dollar ⁶
|  | (A) | (B) | (C = A * B) | (D = C * wage rates)
FAST Act, Section 11405—Written request or filing of Form FRA F 6180.167 “Bridge Inspection Report Public Version Request Form” by State or a political subdivision of a State | 50 states and DC and 200 state political subdivisions | 50 forms or written requests | 5 minutes | 4.17 | 340.73
FAST Act, Section 11405—Submission of public version of bridge inspection report from railroads to FRA | 754 railroads | 47 reports | 1 hour | 47.00 | 3,639.68
214.105(c)(4)—Fall protection systems standards and practices—Safety net systems certification records | 754 railroads | 3 written certification records | 5 minutes | .25 | 19.36
237.3(b)—Notifications to FRA of assignment of bridge responsibility and signed statement by assignee concerning bridge responsibility | 784 track owners | 10 notifications | 2 hours | 20.00 | 1,548.80
237.9—Waivers | 784 track owners | .33 petition | 4 hours | 1.32 | 102.22
237.31—Adoption of bridge management programs—Existing and new track owners | 784 track owners | 15 programs | 24 hours | 360.00 | 27,878.40
237.57—Designation of qualified individuals | 784 track owners | 200 records | 15 minutes | 50.00 | 3,872.00
237.71—Determination of bridge load capacities | The burden associated with this requirement is covered above under § 237.31.
237.73—Protection of bridges from over-weight and over-dimension loads—Issuance of instructions to railroad personnel by track owner | 784 track owners | 100 written instructions | 2 hours | 200.00 | 15,488.00
237.109—Bridge inspection records—Reports and records | 784 track owners | 100,000 inspection reports and records | 15 minutes | 25,000.00 | 1,936,000.00
—(g) Report of deficient condition on a bridge | The burden associated with this requirement is covered above under § 237.109.
237.111—Review of bridge inspection reports by railroad bridge supervisors | 784 track owners | 100,000 reviews | 5 minutes | 8,333.33 | 645,333.08
237.155—Documents & records—Establishment of information technology security systems for electronic recordkeeping | 784 track owners | 5 electronic recordkeeping systems | 80 hours | 400.00 | 30,976.00
—(a)(4) Training of track owner's employees who use the system on the proper use of the electronic recordkeeping system | 784 track owners | 50 information system trainings | 4 hours | 200.00 | 15,488.00
Total ⁷ | 784 track owners, 50 States and DC, and 200 political subdivisions | 200,480 responses | N/A | 34,616 | 2,680,686

Total Estimated Annual Responses: 200,480.

⁵ The burden associated with § 214.105(c)(4), formerly covered under OMB Control No. 2130-0535, is now combined with the burden under OMB Control No. 2130-0586.

⁶ For State respondents, the dollar equivalent cost is derived from the Bureau of Labor Statistics data for management occupations, NAICS 99920—State Government, excluding schools and hospitals, for State government employees. To calculate the mean hourly wage of $46.69 for this category of workers, FRA included a 75-percent charge for overhead costs. The calculation is $46.69 per hour * 1.75 = $81.71. The Web address for this data is: https://www.bls.gov/oes/current/naics4_999200.htm#11-0000. Additionally, for railroad and track owner respondents, the dollar equivalent cost is derived from the Surface Transportation Board's 2020 Full Year Wage A&B data series for railroad workers. The wage rate of $77.44 per hour includes a 75-percent overhead charge.

⁷ Totals may not add due to rounding.

Total Estimated Annual Burden: 34,616 hours.

Total Estimated Annual Burden Hour Dollar Cost Equivalent: $2,680,686.

FRA informs all interested parties that it may not conduct or sponsor, and a respondent is not required to respond to, a collection of information that does not display a currently valid OMB control number.

(Authority: 44 U.S.C. 3501-3520)

Brett A. Jortland,
Deputy Chief Counsel.

[FR Doc. 2022-12942 Filed 6-15-22; 8:45 am]

BILLING CODE 4910-06-P